DEPARTMENT OF TRANSPORTATION

Surface Transportation Board

[Docket No. AB 1003 (Sub-No. 1X)]

Mohall Central Railroad, Inc.—Abandonment Exemption—in Cavalier County, ND

Mohall Central Railroad, Inc. (MCR) filed a verified notice of exemption under 49 CFR part 1152 subpart F—Exempt Abandonments to abandon a 5.4-mile line of railroad extending between milepost 67.5 near Calvin, N.D., and milepost 72.9 at Sarles, N.D.¹ The line traverses United States Postal Service Zip Codes 58323 and 58372.

¹ In Northern Plains Railroad—Operation Exemption—Rail Line of Mohall Central Railroad, FD 34780 (STB served Dec. 29. 2005), Northern Plains Railroad, Inc. (NPR) was authorized to operate a 69.15-mile line of railroad that includes this portion of the rail line. Applicant states that because NPR never instituted service on the line, MCR does not need NPR to obtain discontinuance authority before MCR seeks abandonment authority here. See Mohall Cent. R.R.—Aban. Exemption—in Nelson, Ramsey, and Cavalier Counties, ND, AB 1003X, slip op. at 1 n.1 (STB served Oct. 29, 2007). MCR has certified to the Board that it has notified NPR of its plans to abandon the 5.4-mile portion of the line and has served a copy of its notice on NPR.

MCR has certified that: (1) No local traffic has moved over the line for at least 2 years; (2) there is no overhead traffic on the line to be rerouted over other lines; (3) no formal complaint filed by a user of rail service on the line (or by a State or local government entity acting on behalf of such user) regarding cessation of service over the line either is pending with the Surface Transportation Board (Board) or with any U.S. District Court or has been decided in favor of complainant within the 2-year period; and (4) the requirements at 49 CFR 1105.7(c) (environmental report), 49 CFR 1105.11 (transmittal letter), 49 CFR 1105.12 (newspaper publication), and 49 CFR 1152.50(d)(1) (notice to governmental agencies) have been met.

As a condition to this exemption, any employee adversely affected by the abandonment shall be protected under Oregon Short Line—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on January 15, 2011, unless stayed pending reconsideration. Petitions to stay that do not involve environmental issues,² formal expressions of intent to file an OFA under 49 CFR 1152.27(c)(2),³ and trail use/rail banking requests under 49 CFR 1152.29 must be filed by December 27, 2010. Petitions to reopen or requests for public use conditions under 49 CFR 1152.28 must be filed by January 5, 2011, with the Surface Transportation Board, 395 E Street, SW., Washington, DC 20423-0001.

² The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

³ Each OFA must be accompanied by the filing fee, which is currently set at $1,500. See 49 CFR 1002.2(f)(25).

A copy of any petition filed with the Board should be sent to MCR's representative: Michael J. Barron, Jr., Fletcher & Sippel LLC, 29 N. Wacker Dr., Suite 920, Chicago, IL 60606.

If the verified notice contains false or misleading information, the exemption is void ab initio.

MCR has filed a combined environmental and historic report that addresses the effects, if any, of the abandonment on the environment and historic resources. OEA will issue an environmental assessment (EA) by December 21, 2010. Interested persons may obtain a copy of the EA by writing to OEA (Room 1100, Surface Transportation Board, Washington, DC 20423-0001) or by calling OEA, at (202) 245-0305. Assistance for the hearing impaired is available through the Federal Information Relay Service (FIRS) at 1-800-877-8339. Comments on environmental and historic preservation matters must be filed within 15 days after the EA becomes available to the public.

Environmental, historic preservation, public use, or trail use/rail banking conditions will be imposed, where appropriate, in a subsequent decision.

Pursuant to the provisions of 49 CFR 1152.29(e)(2), MCR shall file a notice of consummation with the Board to signify that it has exercised the authority granted and fully abandoned the line. If consummation has not been effected by MCR's filing of a notice of consummation by December 16, 2011, and there are no legal or regulatory barriers to consummation, the authority to abandon will automatically expire.

Board decisions and notices are available on our Web site at http://www.stb.dot.gov.

Decided: December 13, 2010.
By the Board.
Rachel D. Campbell,
Director, Office of Proceedings.
Jeffrey Herzig,
Clearance Clerk.

[FR Doc. 2010-31728 Filed 12-16-10; 8:45 am]

BILLING CODE 4915-01-P